DEPARTMENT OF ENERGY

Energy Information Administration

Policy Statement; Solicitation Of Comments On The Proposed Policy For Information In Statistical Tables Based On Confidential Historical Electric Power Survey Data

AGENCY: Energy Information Administration (EIA), Department of Energy (DOE).

ACTION: Policy Statement; Solicitation of Comments on the Proposed Policy for Information in Statistical Tables Based on Confidential Historical Electric Power Survey Data.

SUMMARY: The EIA is requesting comments on a proposed policy to discontinue the use of disclosure limitation methods for information in statistical tables derived from confidential historical electric power survey data. This request is based on the need to provide additional tabulations that will improve and broaden the understanding of the electric power industry by releasing additional information. These data may be released at the national, State, or regional level. For this policy, confidential historical electric power survey data are defined as any electric power data collected in an EIA survey under a pledge of confidentiality during a survey period at least 3 years prior to the time of dissemination. These statistical tables are disseminated in various EIA products, including the Electric Power Monthly, Electric Power Annual, Coal Industry Annual, Quarterly Coal Report, Renewable Energy Annual, Natural Gas Monthly, Natural Gas Annual, Petroleum Marketing Monthly, Petroleum Supply Monthly, Petroleum Marketing Annual, Petroleum Supply Annual, Volumes 1 and 2, and Annual Energy Review. (EIA's electric power data are available on the web at http://www.eia.doe.gov/).

DATES: Comments must be filed by December 23, 2002. If you anticipate difficulty in submitting comments within that period, contact the person listed below as soon as possible.

ADDRESSES: Comments on this proposed policy should be directed to Dean Fennell. To ensure receipt of the comments by the due date, submission by FAX (202-287-1934) or e-mail (Dean.Fennell@eia.doe.gov) is recommended. The mailing address is Energy Information Administration, EI-53, U.S. Department of Energy, 1000 Independence Ave., SW., Washington, DC 20585-0650. Alternatively, Mr. Fennell may be contacted by telephone at 202-287-1744.

FOR FURTHER INFORMATION CONTACT: Requests for additional information should be directed to Mr. Fennell at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA provides the public and other Federal agencies with opportunities to comment on collections of energy information conducted by EIA. As appropriate, EIA also requests comments on important issues relevant to the dissemination of energy information. Comments received help the EIA when preparing information collections and information products necessary to support EIA's mission.

The EIA collects survey information about the electric power industry from companies and organizations involved in the generation, transmission, distribution, and sales of electric power. This survey information is disseminated in a variety of information products and electronic data files used by government and private sector policymakers and analysts.

II. Current Actions

EIA is requesting public comments on a proposed policy to discontinue the use of disclosure limitation methods for information in statistical tables derived from confidential historical electric power survey data. This request is based on the need to provide additional tabulations that will improve and broaden the understanding of the electric power industry. These data may be released at the national, State, or regional level. (An example of this is publishing national level fuel consumption data in the Annual Energy Review, or publishing State or regional level data for fuel consumption, useful thermal output, or generation in reports such as the Electric Power Monthly or Natural Gas Annual.)

For this policy, confidential historical electric power survey data are defined as any electric power data collected in an EIA survey under a pledge of confidentiality during a survey period at least 3 years prior to the time of dissemination. The 3-year period includes the reporting year (the year for which data are currently being collected) and two prior years where data have been finalized. In the case of annual data, the EIA would disseminate information for 1998 and prior years without suppressing individual sensitive data cells in summary tables. For monthly data, historical data would be disseminated for 1999 and prior years without suppressing individual sensitive data cells in summary tables. While EIA will continue to maintain the confidentiality of individual data forms, EIA believes that the release of these historical data in tabular form (State, regional, or national level) will not affect the competitiveness of an individual company. EIA will continue to use its disclosure rules, which are designed to protect confidential data, and withhold sensitive data in summary level tables for the years that remain protected. At present, EIA will withhold sensitive annual data for 1999, 2000, and 2001 and sensitive monthly data for 2000, 2001, and 2002.

With respect to the confidentiality of information collected in EIA's electric power surveys, there are two categories. Some information is collected under a pledge of confidentiality and EIA takes various actions to ensure the protection of such information. Those steps include access controls on the individually-identifiable information, as well as the use of disclosure limitation methods to ensure statistical tables based on the confidential information do not have sensitive data cell values. A sensitive data cell value is one that could be used by a knowledgeable person to estimate too closely the confidential information reported by an individual survey respondent. EIA never publicly releases individually-identifiable information collected under a pledge of confidentiality.

Other electric power survey information is considered nonconfidential because EIA has determined that the public release of the information would not cause substantial competitive harm to the survey respondents. EIA uses nonconfidential survey information in its products and may also make the information publicly available in individually-identifiable form.

EIA's proposed policy would eliminate the use of disclosure limitation methods on information displayed in statistical tables based on confidential historical electric power survey data if the survey data is at least 3 years old. EIA believes that because the data are old, this policy would not cause substantial competitive harm to the competitive position of any electric power survey respondent. This policy would expand the electric power information that could be provided in EIA information products by eliminating the requirement to withhold sensitive cells and other nonsensitive cells necessary to ensure protection of sensitive information.

III. Request for Comments

The public should comment on the actions discussed in item II. The questions below are general issues on which EIA is seeking public comments.

General Issues:

A. Is the proposed policy appropriate for EIA's confidential historical electric power survey data?

B. Is the assumption that the proposed policy would not cause substantial competitive harm to the competitive position of any survey respondent reasonable?

Comments submitted in response to this notice will be considered during development of EIA's final policy regarding the use of disclosure limitation methods for information in statistical tables with confidential historical electric power survey data. The comments will also become a matter of public record.

After EIA has completed development, a Federal Register notice will be issued announcing the policy.

Statutory Authority: Section 52 of the Federal Energy Administration Act (Pub. L. 93-275, 15 U.S.C. 790a).

Issued in Washington, DC, October 18, 2002.
Guy F. Caruso,
Administrator, Energy Information Administration.

[FR Doc. 02-27123 Filed 10-23-02; 8:45 am]

BILLING CODE 6450-01-P